BROADCASTING BOARD OF GOVERNORS

Government in the Sunshine Act Meeting Notice

Date and Time: Friday, November 19, 2010, 11 a.m.

Place: Cohen Building, Room 3321, 330 Independence Ave., SW., Washington, DC 20237.

Subject: Notice of Meeting of the Broadcasting Board of Governors.

SUMMARY: The Broadcasting Board of Governors (BBG) will be meeting at the time and location listed above. The BBG will be considering protection of BBG journalists, a resolution regarding the Agency's Ethics Program, a report from the Board's Governance Committee, a status report from the International Broadcasting Bureau Coordinating Committee, and research presentations by InterMedia and Gallup. The meeting is open to the public—but due to space limitations via Webcast only—and will be streamed live on the BBG's public Web site at http://www.bbg.gov. The meeting will also be made available on the BBG's public Web site for on-demand viewing.

Contact Person for More Information: Persons interested in obtaining more information should contact Paul Kollmer-Dorsey at (202) 203-4545.

Paul Kollmer-Dorsey,
Deputy General Counsel.

[FR Doc. 2010-28782 Filed 11-10-10; 4:15 pm]

BILLING CODE 8610-01-P